DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: NOAA Aviation Safety Program.

Form Number(s): None.

OMB Approval Number: None.

Type of Request: Regular submission.

Burden Hours: 250.

Number of Respondents: 1,000.

Average Hours Per Response: 15 minutes.

Needs and Uses: NOAA has a responsibility to provide a safe working environment for its workforce and partners who are exposed to the risks associated with flying on behalf of the Agency. NOAA's aviation safety policy requires all individuals who fly on aircraft owned or operated by NOAA for mission operations, and all NOAA personnel who fly on any aircraft for mission operations in the performance of their official duties to be medically screened to identify individuals that could be placed in a work environment (flight) with the potential to aggravated existing medical conditions. NOAA Office of Marine and Aviation Operations (OMAO) administers NOAA's aviation safety policy through the Aviation Safety Program. OMAO requests medical history information from individuals (researchers or NOAA Program activity observers) requesting clearance to fly on behalf of NOAA to determine the individual's fitness for flight. This information, upon receipt, is reviewed by the NOAA Aviation Medical Examiner to determine whether or not to grant a NOAA Aeromedical Clearance Notice, receipt of which, authorizes participation in flight activities on behalf of NOAA.

Affected Public: Not-for-profit institutions; State, local or tribal government; Federal Government; individuals or households; business or other for-profit organizations.

Frequency: On occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 22, 2006.
Gwellnar Banks,
Management Analyst, Office of the Chief Information Officer.

[FR Doc. E6-10142 Filed 6-27-06; 8:45 am]

BILLING CODE 3510-22-P